DEPARTMENT OF THE INTERIOR Bureau of Land Management

[C0-150-00-1210-PA-242A]

Notice of Intent to Amend the Uncompahgre Resource Management Plan and Environmental Impact; Statement and Prepare a National Conservation Area Management Plan and Environmental Impact; Statement for the Gunnison Gorge National Conservation Area and Wilderness

AGENCY: Bureau of Land Management (BLM), Uncompahgre Field Office, Montrose, Colorado.

ACTION: Notice; Intent to amend the Uncompahgre Basin Resource Management Plan (RMP) and associated Environmental Impact Statement (EIS) and invite public comment for the preparation of management plan for the Gunnison Gorge National Conservation Area (NCA) and Wilderness.

SUMMARY: This document provides notice of the Bureau of Land Management's intent to amend its Uncompahgre Basin Resource Management Plan governing the management of public land within the Uncompahgre Field Office Area in southwest Colorado, in particular, those lands within and adjacent to the newly designated Gunnison Gorge National Conservation Area and Wilderness, formerly managed as the Gunnison Gorge Special Recreation Management Area (SRMA) and Wilderness Study Area (WSA). This notice also initiates the public scoping process for the preparation of the Gunnison Gorge NCA/Wilderness plan to examine proposed issues and planning criteria. This scoping process will also include an evaluation of the existing Resource Management Plan in the context of NCA management.

ADDRESSES: For further information and/or to have your name added to the NCA/Wilderness Plan mailing list, contact Karen Tucker, Bureau of Land Management, Uncompahgre Field Office, 2505 South Townsend Ave., Montrose, CO 81401; Telephone (970) 240-5309; Fax. (970) 240-5367.

SUPPLEMENTARY INFORMATION: The Gunnison Gorge National Conservation Area and Wilderness Plan will replace the existing Recreation Area Management Plan for the Gunnison Gorge Recreation Lands, Colorado (RAMP, 1985) and Addition to the Recreation Area Management Plan (RAMP Add., 1988) and amend the Uncompahgre Basin Resource Management Plan and Environmental Impact Statement (RMP/EIS, 1987). Existing decisions in those documents which are still valid will be carried forward into the new NCA Management Plan. The Uncompahgre RMP/EIS and Gunnison Gorge Recreation Area Management Plans are located in the Uncompahgre Field Office in Montrose, Colorado.

The NCA planning area includes the 57,725 acres Gunnison Gorge National Conservation Area and 17,700 acres Gunnison Gorge Wilderness Area included within the NCA boundary. Other BLM lands immediately adjacent to the NCA, Wilderness Area, and Black Canyon of the Gunnison National Park will also be included within the planning area boundary. These lands include, but are not limited to the former Tri-State lands, approximately 5,000 acres located at the northwest end of the NCA, public lands in the Peach Valley and Flat Top area on the NCA's west and south border, and public lands on the east side of the Gunnison River in the Red Canyon and Fruitland Mesa areas.

Public and focus groups meetings will be held throughout the plan scoping and preparation period. Meeting locations will be rotated between the towns of Montrose, Delta, Olathe, Hotchkiss, Crawford, and Paonia in order to ensure local community participation and input. An interactive NCA web site will provide additional opportunities for public comment and participation. Written comments will also be accepted throughout the planning process at the address shown above. A newsletter will be sent out to all interested individuals and groups requesting comments on the planning proposal. Meetings and comment deadlines will be announced through the local news media, in the newsletter, and on the BLM NCA web site. Additional public participation opportunities will be provided for comment on the alternatives and upon publishing the Draft NCA/EIS.

Documents pertinent to this proposal may be examined at the BLM office in Montrose, Colorado. Some of the issues that have been identified in the initial phases of the NCA Plan process include: Water quantity and quality, water rights, landscape health, riparian and aquatic habitat protection, threatened and endangered specie habitat protection, wildlife habitat quality and fragmentation, declining biodiversity, reintroduction of native species, and noxious weed control. Other factors to be considered include recreation and resource use, protection of wilderness, riparian, and scenic values, the level and intensity of recreation management, including allocation of commercial and private river and upland use, upgrade and new construction of recreation facilities, cultural resource protection and interpretation, grazing of livestock, management of the mineral estate on adjacent areas not withdrawn from mineral entry and location, public access, transportation and utility corridors, off highway vehicle designations, and woodland product harvest.

The following disciplines will be represented on the BLM planning team: Wilderness, recreation, wildlife, fisheries, range management, forestry, geology, realty, soils, and hydrology. Planning criteria include: policy, legal, and regulatory constraints, The Black Canyon of the Gunnison National Park and Gunnison Gorge National Conservation Area Act of 1999 (P. L. 106-76, October 21, 1999), the Wilderness Act, public land health standards, as well as other requirements to maintain scenic values, recreational values and meet public recreation demands, determine the level of management intensity required, determine the need for land or easement acquisition, and set management objectives to protect the priority resources within the NCA and Wilderness.

BACKGROUND INFORMATION: The Black Canyon of the Gunnison National Park and Gunnison Gorge National Conservation Area Act of 1999 designated the 57, 25 acre Gunnison Gorge National Conservation Area (NCA) and Wilderness Area (17,700 acres) which are managed by the Bureau of Land Management Uncompahgre Field Office (UFO) in Montrose, Colorado. The Act also upgraded the former Black Canyon of the Gunnison National Monument (which is contiguous to the NCA) to National Park status and expanded the National Park with the transfer of approximately 7,000 acres of former BLM managed land to the National Park Service. A National Conservation Area or NCA is the designation given by the U.S. Congress to special lands managed by the Bureau of Land Management to permanently protect and conserve identified resource values of national interest. The 1999 Act directs the BLM to develop a “comprehensive plan for the long-range protection and management of the Conservation Area” within four years of the designation date.

Dated: August 10, 2000.
Allan J. Belt,
Uncompahgre Field Office Manager.

[FR Doc. 00-21065 Filed 8-17-00; 8:45 am]

BILLING CODE 4310-JB-P